DEPARTMENT OF ENERGY

Federal Energy Regulatory Commission

[Docket No. RP01-410-001]

Algonquin LNG, Inc.; Notice of Compliance Filing

June 19, 2001.

Take notice that on June 14, 2001, Algonquin LNG, Inc. (ALNG) tendered for filing as part of its FERC Gas Tariff, First Revised Volume No. 1, the following tariff sheet, to be effective on June 4, 2001:

Sub Original Sheet No. 84

ALNG states that the purpose of this filing is to comply with the directives of the Commission's Letter Order dated May 30, 2001, in Docket No. RP01-410 (May 30 Order).

ALNG states that on May 4, 2001, revised tariff sheets were filed in this docket in order to add a new Section 35 to its General Terms and Conditions that provides for transportation and storage services using off-system capacity acquired by ALNG on other pipelines and requested a waiver of the Commission's “shipper must have title” policy with respect to off-system capacity.

ALNG states that the May 30 Order accepted ALNG's May 4 tariff filing, effective June 4, 2001, subject to the condition that ALNG file, within fifteen days of the May 30 Order, a revised tariff sheet to reflect the changes required by the May 30 Order.

ALNG states that copies of its filing have been mailed to all affected customers and interested state commissions.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm

Linwood A. Watson, Jr.,
Acting Secretary.

[FR Doc. 01-15858 Filed 6-22-01; 8:45 am]

BILLING CODE 6717-01-M